DEPARTMENT OF DEFENSE

Office of the Secretary

[Docket ID: DOD-2025-OS-0771]

Request for Approval of an Existing Information Collection in Use Without an OMB Control Number; Comment Request

AGENCY: Office of the Under Secretary of Defense for Personnel and Readiness (OUSD(P&R)), Department of Defense (DoD).

ACTION: 60-Day information collection notice.

SUMMARY: In compliance with the Paperwork Reduction Act of 1995, the OUSD(P&R) announces an existing information collection in use without an OMB control number and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 13, 2026.

ADDRESSES: You may submit comments, identified by docket number and title, by any of the following methods:

Federal eRulemaking Portal: http://www.regulations.gov. Follow the instructions for submitting comments.

Mail: Department of Defense, Privacy, Civil Liberties, and Transparency Directorate, Office of the Director of Administration & Management, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To view the current version of the document, visit https://www.esd.whs.mil/Portals/54/Documents/DD/forms/dd/dd0003.pdf. To request more information on this proposed information collection or to obtain a copy of the proposal and associated collection instruments, please write to Office of the Deputy Assistant Secretary of Defense for Military Community and Family Policy, ATTN: C&MA, 1500 Defense Pentagon, Washington, DC 20301-1500, Lisa Valentine, (571) 372-5319, osd.pentagon.ousd-p-r.mbx.gold-star-liaison@mail.mil.

SUPPLEMENTARY INFORMATION:

Title; Associated Form; and OMB Number: “Application for Gold Star Lapel Button,” DD Form 3; OMB Control Number 0704-GSLB.

Needs and Uses: The DD Form 3 is used by family members of deceased Service members to request a replacement or an initial Gold Star Lapel Button if not received as authorized by Section 1126 of Title 10, United States Code. Surviving family members eligible to receive and wear the button if their service member dies in a qualifying situation are:

• Widows, remarried or not

• Widowers, remarried or not

• Each parent (mother, father, stepmother, stepfather, mother through adoption, father through adoption and foster parents)

• Each child, stepchild and each adopted child

• Each sibling, half sibling and stepsibling

DOD Instruction 1348.36 detailing the Gold Star Lapel Button Program lists the qualifying situations for eligibility. For more information see https://www.esd.whs.mil/Portals/54/Documents/DD/issuances/dodi/134836p.pdf?ver=mN9Jeg1LSLWwc52VRIjhdQ%3D%3D.

Affected Public: Individuals and households.

Annual Burden Hours: 6 hours.

Number of Respondents: 120.

Responses per Respondent: 1.

Annual Responses: 120.

Average Burden per Response: 3 minutes.

Frequency: On occasion.

Dated: December 11, 2025.
Stephanie J. Bost,
Alternate OSD Federal Register Liaison Officer, Department of Defense.

[FR Doc. 2025-22815 Filed 12-12-25; 8:45 am]

BILLING CODE 6001-FR-P